OFFICE OF MANAGEMENT AND BUDGET

Public Availability of Fiscal Year 2005 Agency Inventories Under the Federal Activities Inventory Reform Act

AGENCY: Office of Management and Budget, Executive Office of the President.

ACTION: Notice of public availability of agency inventory of activities that are not inherently governmental and of activities that are inherently governmental.

SUMMARY: The Federal Activities Inventory Reform (FAIR) Act, Public Law 105-270, requires agencies to develop inventories each year of activities performed by their employees that are not inherently governmental—i.e., inventories of commercial activities. The FAIR Act further requires OMB to review the inventories in consultation with the agencies and publish a notice of public availability in the Federal Register after the consultation process is completed. In accordance with the FAIR Act, OMB is publishing this notice to announce the availability of inventories from the agencies listed below. These inventories identify both commercial activities and activities that are inherently governmental.

This is the first release of the FAIR Act inventories for FY 2005. Interested parties who disagree with the agency's initial judgment may challenge the inclusion or the omission of an activity on the list of activities that are not inherently governmental within 30 working days and, if not satisfied with this review, may appeal to a higher level within the agency.

The Office of Federal Procurement Policy has made available a FAIR Act User's Guide through its Internet site: http://www.whitehouse.gov/omb/procurement/fair-index.html. This User's Guide will help interested parties review FY 2005 FAIR Act inventories.

Joshua B. Bolten,
Director.

First Fair Act Release FY 2005
American Battle Monuments Commission | Mr. Alan Gregory, (703) 696-6868, www.abmc.gov.
Chemical Safety Board | Ms. Bea Robinson, (202) 261-7627, www.csb.gov.
Commission on Fine Arts | Mr. Frederick Lindstrom, (202) 504-2200, www.cfa.gov.
Council on Environmental Quality | Mr. Ted Boling, (202) 395-3449, www.whitehouse.gov/ceq.
Defense Nuclear Facilities Safety Board | Mr. Kenneth Pusateri, (202) 694-7060, www.dnfsb.gov.
Department of Defense | Mr. Paul Soloman, (703) 602-3666, web.lmi.org/fairnet.
Department of Defense (IG) | Mr. John R. Crane, (703) 604-8324, www.dodig.osd.mil.
Department of Education | Mr. Glenn Perry, (202) 245-6200, www.ed.gov/about/offices/list/ocfo/2005fair.html.
Department of Energy | Mr. Mark R. Hively, (202) 586-5655, www.mbe.doe.gov/a-76/.
Department of Health and Human Services | Ms. Tracey Mock, (202) 205-4430, www.hhs.gov/ogam/oam/fair.
Department of Housing and Urban Development | Ms. Janice Blake-Green, (202) 708-0614, x3214, www.hud.gov.
Department of Housing and Urban Development (IG) | Ms. Peggy Dickinson, (202) 708-0614, x8192, www.hudoig.gov.
Department of the Interior | Ms. Donna Kalvels, (202) 219-0727, www.doi.gov.
Department of the Interior (IG) | Mr. Roy Kime, (202) 208-6232, www.oig.doi.gov.
Department of Justice | Mr. Larry Silvis, (202) 616-3754, www.usdoj.gov/jmd/pe/preface.htm.
Department of Labor | Mr. Al Stewart, (202) 693-4028, www.dol.gov.
Department of Labor (IG) | Mr. David LeDoux, (202) 693-5138, www.oig.dol.gov.
Department of State | Ms. Valerie Dumas, (703) 516-1506, www.state.gov.
Department of Transportation | Mr. David Litman, (202) 366-4263, www.dot.gov.
Department of Transportation (IG) | Ms. Jackie Weber, (202) 366-1495, www.oig.dot.gov.
Department of the Treasury | Mr. Jim Sullivan, (202) 622-9395, www.treas.gov/fair.
Environmental Protection Agency | Ms. Melanie Gooden, (202) 566-2222, www.epa.gov.
Environmental Protection Agency (IG) | Mr. Michael J. Binder, (202) 566-2617, www.epa.gov/oig.
Equal Employment Opportunity Commission | Mr. Jeffrey Smith, (202) 663-4200, www.eeoc.gov/abouteeoc/plan/.
Farm Credit Administration | Mr. Philip Shebest, (703) 883-4146, www.fca.gov.
Federal Mediation and Conciliation Service | Mr. Dan Ellerman, (202) 606-5460, www.fmcs.gov.
Federal Trade Commission | Ms. Darlene Cossette, (202) 326-3255, www.ftc.gov.
Holocaust Museum | Ms. Helen Shepherd, (202) 314-0396, www.ushmm.gov.
Inter-American Foundation | Ms. Linda Kolko, (703) 306-4308, www.iaf.gov.
Kennedy Center | Mr. Jared Barlage, (202) 416-8721, www.kennedy-center.org.
Marine Mammal Commission | Mr. David Cottingham, (301) 504-0087, www.mmc.gov.
Morris K. Udall Foundation | Mr. Philip Lemanski, (520) 670-5651, www.udall.gov.
National Aeronautics and Space Administration | Mr. Joseph Lecren, (202) 358-0431, competitivesourcing.nasa.gov.
National Archives and Records Administration | Ms. Susan Ashtianie, (301) 837-1490, www.nara.gov.
National Archives and Records Administration (IG) | Mr. James Springs, (301) 837-3018, www.archives.gov/about/plans-reports/fair-act/oig.html.
National Capital Planning Commission | Mr. Barry Socks, (202) 482-7209, www.ncpc.gov.
National Endowment for the Arts | Mr. Ned Read, (202) 682-5782, www.arts.gov.
National Endowment for the Humanities | Mr. Barry Maynes, (202) 606-8233, www.neh.gov/whoweare/administrative.html.
National Labor Relations Board | Ms. Demetria Gregory, (202) 273-0054, www.nlrb.gov/nlrb/about/reports/fair.asp.
National Labor Relations Board (IG) | Mr. Emil George, (202) 273-1966, www.nlrb.gov/nlrb/about/reports/fair.asp.
National Mediation Board | Ms. Denise Murdock, (202) 692-5010, www.nmb.gov.
National Science Foundation | Mr. Joseph F. Burt, (703) 292-8180, www.nsf.gov/pubs/2006/od0601/start.htm.
National Transportation Safety Board | Ms. Barbara Czech, (202) 314-6169, www.ntsb.gov/info/fair_act_2005.htm.
Nuclear Regulatory Commission | Ms. Mary Lynn Scott, (301) 415-7305, www.nrc.gov/who-we-are/contracting.html.
Nuclear Regulatory Commission (IG) | Mr. David Lee, (301) 415-5930, www.nrc.gov/insp-gen/fairact-inventory.html.
Nuclear Waste Technical Review Board | Ms. Joyce Dory, (703) 235-4473, www.nwtrb.gov.
Occupational Safety and Health Review Commission | Mr. Richard Loeb, (202) 606-5376, www.oshrc.gov.
Office of National Drug Control Policy | Mr. Daniel Petersen, (202) 395-6745, www.whitehousedrugpolicy.gov.
Office of Personnel Management | Mr. Ronald C. Flom, (202) 606-3207, www.opm.gov/procure/fairactinventory/.
Office of the Special Counsel | Mr. Roderick Anderson, (202) 254-3600, www.osc.gov.
Office of the U.S. Trade Representative | Ms. Susan Buck, (202) 395-9412, www.ustr.gov.
Railroad Retirement Board | Mr. Henry Valiulius, (312) 751-4990, www.rrb.gov.
Railroad Retirement Board (IG) | Ms. Henrietta Shaw, (312) 751-4345, www.rrb.gov/mep/oig.asp.
Selective Service System | Mr. Calvin Montgomery, (703) 605-4038, www.sss.gov.
Small Business Administration | Mr. Robert J. Moffitt, (202) 205-6610, www.sba.gov/fair.
Small Business Administration (IG) | Ms. Robert Fisher, (202) 205-6583, www.sba.gov/ig/OIG_Fair.html.
Social Security Administration | Mr. Jaime Fisher, (410) 965-9097, www.ssa.gov.
U.S. Agency for International Development | Ms. Deborah Lewis, (202) 712-0936, www.usaid.gov.
U.S. Agency for International Development (IG) | Mr. Robert S. Ross, (202) 712-0010, www.usaid.gov/oig/.
U.S. Patent and Trademark Office | Mr. Jack Buie, (571) 272-6283, www.uspto.gov.
U.S. Trade Development Agency | Ms. Barbara Bradford, (703) 875-4357, www.tda.gov.
Woodrow Wilson Center | Ms. Ronnie Dempsey, (202) 691-4216, www.wilsoncenter.org.

[FR Doc. 06-2427 Filed 3-13-06; 8:45 am]

BILLING CODE 3110-01-P